DEPARTMENT OF ENERGY

Federal Energy Regulatory Commission

[Docket Nos. CP17-40-000, CP17-40-001]

Spire STL Pipeline LLC; Notice of Onsite Environmental Review

On May 31, 2023, Federal Energy Regulatory Commission (Commission) staff will conduct a restoration inspection of the Spire STL Pipeline Project (Spire Project) right-of-way in Greene, Jersey, and Scott Counties, Illinois. The purpose of the inspection is to assess the existing condition of right-of-way restoration along a portion of the Spire Project in Illinois and to evaluate Spire STL Pipeline LLC's (Spire) compliance with the restoration conditions of the Commission's August 3, 2018 Order Issuing Certificate, March 18, 2021 Order on Environmental Compliance, and December 15, 2022 Order on Remand and Reissuing Certificates. Other Commission staff, Spire's representatives, and the landowner's representatives will accompany the Office of Energy Projects staff during the inspection and will view the right-of-way from public access points and where landowners have granted Spire access outside of the permanent right-of-way easement. For additional information or questions, please contact the Office of External Affairs at (866) 208-FERC or email DG2E@ferc.gov.

Dated: May 22, 2023.
Kimberly D. Bose,
Secretary.

[FR Doc. 2023-11288 Filed 5-25-23; 8:45 am]

BILLING CODE 6717-01-P